NATIONAL AERONAUTICS AND SPACE ADMINISTRATION

[Notice 05-129]

Privacy Act of 1974; Privacy Act System of Records

AGENCY: National Aeronautics and Space Administration (NASA).

ACTION: Notice of Privacy Act system of records.

SUMMARY: The National Aeronautics and Space Administration proposes to establish a system of records titled “National Aeronautics and Space Administration Foreign National Management System.” This system of records is to document, track, manage, analyze, and/or report on foreign access to NASA resources. Routine uses of this system of records will be to determine eligibility of foreign nationals, and U.S. citizens representing foreign entities, to access NASA facilities and resources. The records in this system of records are intended for the sole use of the U.S. Government and its contractors who support U.S. Government operations, policies, laws and regulations.

DATES: Submit comments 60 calendar days from the date of this publication.

ADDRESSES: Patti F. Stockman, Privacy Act Officer, Office of the Chief Information Officer, National Aeronautics and Space Administration Headquarters, Washington, DC 20546-0001, (202) 358-4787.

FOR FURTHER INFORMATION CONTACT: Patti F. Stockman, Privacy Act Officer, Office of the Chief Information Officer, National Aeronautics and Space Administration Headquarters, Washington, DC 20546-0001, (202) 358-4787.

SUPPLEMENTARY INFORMATION: This publication is in accordance with the Privacy Act requirement that agencies publish each system of records in the Federal Register. Pursuant to Section 208 of the E-Government Act of 2002, NASA has conducted a Privacy Impact Assessment (PIA). A copy of the PIA can be obtained by contacting the NASA Privacy Act Officer at the address listed above. Authorization as an Information Collection under the Paperwork Reduction Act is being sought from OMB and will be noticed as a separate submission.

NASA 10 FNMS

SYSTEM NAME:

National Aeronautics and Space Administration Foreign National Management System.

SECURITY CLASSIFICATION:

None.

SYSTEM LOCATION:

The centralized data system is located at the Extranet Security Portals Group, 1225 Clark Street, Suite 1103, Arlington, VA 22202.

CATEGORIES OF INDIVIDUALS COVERED BY THE SYSTEM:

All non-U.S. citizens, to include Lawful Permanent Residents seeking access to NASA facilities, resources, laboratories, contractor sites, Federally Funded Research and Development Centers or NASA sponsored events for unclassified purposes to include employees of NASA or NASA contractors; prospective NASA or NASA contractor employees; employees of other U.S. Government agencies or their contractors of universities, of companies (professional or service staff), or of other institutions; foreign students at U.S. institutions; officials or other persons employed by foreign governments or other foreign institutions who may or may not be involved in cooperation with NASA under international agreements; permanent resident aliens; foreign media representatives; and representatives or agents of foreign national governments seeking access to NASA facilities, to include high-level protocol visits; or international relations.

CATEGORIES OF RECORDS IN THE SYSTEM:

Records in this system include information about the individuals seeking access to NASA resources. Information about an individual may include, but is not limited to: name, home address, place of birth and citizenship, U.S. visitor/travel document numbers, employment information, Tax Identification Numbers (Social Security Number), and reason and length of proposed NASA access.

AUTHORITY FOR MAINTENANCE OF THE SYSTEM:

Section 304(a) of the National Aeronautics and Space Act, codified at 42 U.S.C. § 2455; Federal Property Management Regulation, 41 CFR Ch. 101; 14 CFR parts 1203 through 1203b; 14 CFR 1213; 15 CFR 744; 22 CFR 62; 22 CFR 120-130; 40 U.S.C. 1441, and 44 U.S.C. 3101, and Executive Order 9397.

PURPOSE(S):

Records are maintained and used by NASA to document, track, manage, analyze, and/or report on foreign visit and assignment access to NASA facilities including Headquarters, Field Offices, National Laboratories, Federally Funded Research and Development Centers, Contractor Sites, components facilities (NASA Management Office, Wallops Flight Facility, White Sands Test Facility, White Sands Complex, Independent Validation & Verification Facility, Michoud Assembly Center, Moffett Federal Airfield, Goldstone Deep Space Communications Complex, Goddard Institute for Space Studies, National Scientific Balloon Facility, Plum Brook Station).

ROUTINE USES OF RECORDS MAINTAINED IN THE SYSTEM, INCLUDING CATEGORIES OF USERS AND THE PURPOSES OF SUCH USES

1. A record from this system may be disclosed to authorized contractors who are responsible for NASA security and who require this information to perform their contractual obligations to NASA.

2. A record from this system may be disclosed to contractors, grantees, participants in cooperative agreements, collaborating researchers, or their employees, if required for the performance of their responsibilities with respect to national security, international visit and assignment, or foreign access.

3. A record from this system may be disclosed to a member of Congress submitting a request involving a constituent when the constituent has requested assistance from the member with respect to the subject matter of his or her own record. The member of Congress must provide a copy of the constituent's request for assistance.

4. A record from this system may be disclosed to foreign governments or international organizations if required by treaties, international conventions, or executive agreements.

5. A record from this system may be disclosed to members of a NASA Advisory Committee or Committees and interagency boards charged with responsibilities pertaining to international visits and assignments and/or national security when authorized by the individual or to the extent the committee(s) is so authorized and such disclosure is required by law.

6. A record from this system may be disclosed to Federal intelligence organizations, when required by applicable law.

7. A record from this system may be disclosed to Federal agencies for the purpose of determining preliminary visa eligibility when authorized by the individual or as required by law.

8. A record from this system may be disclosed to respond to White House inquiries when required by law.

9. A record from this system may be disclosed to a NASA contractor, subcontractor, grantee, or other Government organization involved in an investigation or administrative inquiry concerning a violation of a Federal or State statute or NASA regulation on the part of an officer or employee of the contractor, subcontractor, grantee, or other Government organization, when and to the extent the information is required by law.

10. A record from this system may be disclosed to an internal or external organization or element thereof, conducting audit activities of a NASA contractor or subcontractor to the extent required by law.

11. A record from this system may be disclosed to provide personal identifying data to Federal, State, local, or foreign law enforcement representatives seeking confirmation of identity of persons under investigation, to the extent necessary and required by law.

12. Standard routine uses 1 through 4 inclusive as set forth in Appendix B.

POLICIES AND PRACTICES FOR STORING, RETRIEVING, ACCESSING, RETAINING, AND DISPOSING OF RECORDS IN THE SYSTEM:

STORAGE:

Records will be stored in electronic format.

RETRIEVABILITY:

Records may be retrieved by name and other personal identifiers. Records are indexed by individual's name, file number, badge number, decal number, payroll number, passport or visa numbers, and/or Social Security Number.

SAFEGUARDS:

An approved security plan for this system has been established in accordance with OMB Circular A-130, Management of Federal Information Resources. Individuals will have access to the system only when and to the extent such access is legally authorized, each item of information is required for his or her job, and the access is in accordance with approved authentication methods. Only key authorized employees with appropriately configured system roles can access the system.

RETENTION AND DISPOSAL:

Records are stored in the Foreign National Management System and managed, retained and dispositioned in accordance with the guidelines defined in NASA Procedural Requirements (NPR) 1441.1D, NASA Records Retention Schedules, Schedule 1, item 35.

SYSTEM MANAGER(S) AND ADDRESS:

Director, Security Management Division, National Aeronautics and Space Administration, Headquarters, Office of Security and Program Protection, 300 E. Street, SW., Washington, DC 20546-0001.

NOTIFICATION PROCEDURES:

Individuals inquiring about their records should notify the System Manager at the address given above.

RECORDS ACCESS PROCEDURES:

Individuals who wish to gain access to their records should submit their request in writing to the System Manager at the address given above. Requests must contain the following identifying data concerning the requestor: First, middle, and last name; date and place of birth; Visa/Passport/Social Security Number; period and place of visit/assignment/employment with NASA.

CONTESTING RECORD PROCEDURES:

The NASA regulations governing access to records and the procedures for contesting the contents and appealing initial determinations are set forth in 14 CFR part 1212.

RECORD SOURCE CATEGORIES:

Records, including official government documentation, are provided by individuals requesting access to NASA facilities and contractor sites, from existing databases containing this information at Federally Funded Research and Development Centers, and from other Federally funded sources located at NASA facilities.

Patricia L. Dunnington,
Chief Information Officer.

[FR Doc. 05-16713 Filed 8-22-05; 8:45 am]

BILLING CODE 7510-13-P